DEPARTMENT OF AGRICULTURE

Rural Utilities Service

Dairyland Power Cooperative; Notice of Finding of No Significant Impact

AGENCY: Rural Utilities Service, USDA.

ACTION: Notice of finding of no significant impact.

SUMMARY: Notice is hereby given that the Rural Utilities Service (RUS), pursuant to the National Environmental Policy Act of 1969, as amended, the Council on 85 Environmental Quality regulations (40 CFR parts 1500-1508), and RUS Environmental Policies and Procedures (7 CFR part 1794), has made a finding of no significant impact (FONSI) with respect to a project proposed by Dairyland Power Cooperative (DPC) of La Crosse, Wisconsin. The project consists of constructing a coal ash landfill at its existing Alma off-site disposal facility. The project is located in the NE¼ of the NE¼ of section 19 and portions of sections 18 and 20, T21N, R12W, Belvidere Township, Buffalo County, Wisconsin. The proposed site is located approximately two miles southeast of Alma, Wisconsin. The proposed landfill will be an expansion of DPC's existing facility. All construction activity will take place on property owned by DPC. RUS may provide financial assistance to DPC for this project.

RUS has concluded that the impacts of the proposed project would not be significant and the proposed action is not a major federal action significantly affecting the quality of the human environment. Therefore, the preparation of an environmental impact statement is not necessary.

FOR FUTHER INFORMATION CONTACT: Nurul Islam, Environmental Protection Specialist, Rural Utilities Service, Engineering and Environmental Staff, Stop 1571, 1400 Independence Avenue, SW, Washington, DC 20250-1571, telephone: (202) 720-1414; e-mail: nislam@rus.usda.gov. Information is also available from Bradley P. Foss, Environmental Biologist, DPC, 3200 East Avenue South, La Crosse, Wisconsin 54601, telephone (608) 787-1492, FAX: (608) 787-1490. His e-mail address is: bpf@dairynet.com.

SUPPLEMENTARY INFORMATION: RUS, in accordance with its environmental policies and procedures, required that DPC prepare an Environmental Analysis (EVAL) reflecting the potential impacts of the proposed facilities. The EVAL, which includes input from federal, state, and local agencies, has been reviewed and accepted as RUS' Environmental Assessment (EA) for the project in accordance with 7 CFR 1794.41. RUS and DPC published notices of the availability of the EA and solicited public comments per 7 CFR 1794.42. The 30-day comment period on the EA for the proposed Phase IV Coal Ash Landfill ended February 24, 2001. Comments were received from the Wisconsin Department of Natural Resources (WDNR), Town Board for the Town of Belvidere (the Board), and U.S. Environmental Protection Agency (USEPA). DPC has submitted their asbestos-handling plan to WDNR for its approval. The asbestos-handling plan, submitted by DPC, had been revised per WDNR's request. Asbestos containing insulation will be sealed in plastic bags before disposal. The bags will be placed in a specially designated asbestos containment area in the central portion of the active disposal area of a cell in Phase IV. The asbestos containing bags shall be laid down flat in the prepared area and covered with two feet of low moisture blended fly ash. The location of the asbestos disposal area within the site shall be mapped and recorded. DPC will not exhume asbestos that will be disposed in the Phase IV. The plan is under review by the WDNR. DPC will revise its asbestos-handling plan as per WDNR recommendation. DPC has already secured or will secure the following approval or permits prior to Phase IV construction of the landfill: initial site investigation report approval, feasibility report approval, plan of operations report approval, and a storm water permit. The Environmental Planning and Evaluation Branch, Region 5, USEPA, reviewed the EA and stated that the environmental impacts appear to be minimal and temporary and should not adversely affect human health or significantly degrade the environment. They did not object to the project or the EA.

Comments were received from the Board in Buffalo County. Its concern included: (1) Tax-exempt status of the landfill and additional lands that are used for buffer zone, and (2) potential pollution from the landfill. The Board's question for the tax-exempt status of lands within a utility project was based upon provisions within the Wisconsin Statues. The proposed Phase IV area has always been within the overall solid waste site and, therefore, we believe that the proposed development will have no effect on the local real property tax. In other words, the real property tax status will remain the same. The land around the landfill acts to maintain a buffer around the landfill. This buffer zone consisting primarily of woodland protects and preserves the aesthetics of the adjacent lands and at the same time helps settling the fugitive dust generated in the landfill area. Fugitive dust will be controlled at the site mainly by the use of water. Other dust control operations will include, but will not limited to, moistening of fly ash, wetting the roads with water to control dust generated by vehicular movements, and placing temporary soil covering of fill material. The proposed Plan of Operation submitted to WDNR include a detailed Dust Control Plan, a groundwater monitoring program, and a Storm Water Pollution Prevention Plan. We believe that all environmental related comments were resolved.

Based on the EA, RUS has concluded that the proposed action will not have a significant effect to various resources, including important farmland, floodplains, wetlands, cultural resources, threatened and endangered species and their critical habitat, air and water quality, and noise. RUS has also determined that there would be no negative impacts of the proposed project on minority communities and low-income communities as a result of the construction of the project.

Dated: March 27, 2001.
Blaine D. Stockton,
Assistant Administrator, Electric Program, Rural Utilities Service.

[FR Doc. 01-8646 Filed 4-6-01; 8:45 am]

BILLING CODE 3410-15-P